AGENCY FOR INTERNATIONAL DEVELOPMENT

Board for International Food and Agricultural Development; Notice of Meeting

Pursuant to the Federal Advisory Committee Act, notice is hereby given of the public meeting of the Board for International Food and Agricultural Development (BIFAD). The meeting will be held from 9:00 a.m. to 5:00 p.m. ET on Wednesday, May 9, 2018, at the Rotunda, Ronald Reagan Building and International Trade Center, 1300 Pennsylvania Ave. NW, Washington, DC. Participants may attend in person or join via livestream. The link to the global live stream as well as registration information can be found on BIFAD's home page: http://www.usaid.gov/bifad.

The central theme of this public meeting will be Resilience Measurement and Analysis. Dr. Brady Deaton, Acting BIFAD Chair, will preside over the public business meeting, which will begin promptly at 9:00 a.m. ET with opening remarks. At this meeting, the Board will address old and new business, including the presentation of the BIFAD Award for Scientific Excellence in an Innovation Lab. The purpose of this meeting is to share knowledge about theoretical and applied frameworks for resilience measurement and analysis and to identify opportunities to leverage U.S. university research capabilities to support resilience measurement and analysis. This event responds to priorities identified during the BIFAD meeting at the 2017 World Food Prize and the 2017 USAID Resilience Evidence Summit.

The meeting will be chaired by Dr. Brady Deaton, Acting BIFAD Chair and Chancellor Emeritus of the University of Missouri. The meeting will feature thought leaders on resilience measurement and analysis from USAID, academia and the practitioner community. Speakers include Dr. Greg Collins, Director of USAID's Center for Resilience and Dr. Mark Constas, Associate Professor at Cornell University, and Chair of the Food and Nutrition Security Resilience Measurement Technical Working Group.

At 4:00 p.m. ET, Acting Chairman Deaton will moderate a half-hour public comment period. At 5:00 p.m., Dr. Deaton will make closing remarks and adjourn the public meeting.

Those wishing to attend the meeting or obtain additional information about BIFAD should contact Clara Cohen, Designated Federal Officer for BIFAD in the Bureau for Food Security at USAID. Interested persons may write to her in care of the U.S. Agency for International Development, Ronald Reagan Building, Bureau for Food Security, 1300 Pennsylvania Avenue NW, Washington, DC, 20523-2110 or telephone her at (202) 712-0119.

Clara Cohen,
Designated Federal Officer, BIFAD, Bureau for Food Security, U.S. Agency for International Development.

[FR Doc. 2018-07968 Filed 4-16-18; 8:45 am]

BILLING CODE P